APALACHIAN STATES LOW-LEVEL RADIOACTIVE WASTE COMMISSION

Annual Meeting

Time and Date: 10 a.m.-12 p.m., November 8, 2002.

Place: Harrisburg Hilton and Towers, One North Second Street, Harrisburg, PA 17101.

Status: Most of the meeting will be open to the public. If there is a need for an executive session (closed to the public), it will be held at about 9:30 a.m.

Matters To Be Considered:

Portions Open to the Public: The primary purpose of this meeting is to (1) Review the independent auditors' report of Commission's financial statements for fiscal year 2001-2002; (2) Review the Low-Level Radioactive Waste (LLRW) generation information for 2001; (3) Consider a proposal budget for fiscal year 2003-2004; (4) Review the status of LLRW disposal facilities and new developments in other states and compacts; and (5) Elect the Commission's Officers.

Portions Closed to the Public: Executive Session, if deemed necessary, will be held at about 9:30 a.m.

Contact Person for More Information: Richard R. Janati, Pennsylvania Staff Member on the Commission, at (717) 787-2163.

Richard R. Janati,
Staff Member on the Commission.

[FR Doc. 02-26865 Filed 10-21-02; 8:45 am]

BILLING CODE 0000-00-P